NATIONAL CAPITAL PLANNING COMMISSION

Notice of Public Comment Period for the Introduction Chapter Updates of the Comprehensive Plan for the National Capital: Federal Elements

AGENCY: National Capital Planning Commission.

ACTION: Notice of 30-day public comment period.

SUMMARY: The National Capital Planning Commission (NCPC) has released a draft update to the Introduction Chapter of the Comprehensive Plan for the National Capital: Federal Elements for public review. The chapter establishes the planning framework for the Comprehensive Plan's Federal Elements to guide agency actions, including review of projects and long-range plans that affect federal buildings, installations, campuses, and master plans in the National Capital Region. The current Comprehensive Plan's Introduction Chapter was adopted in June 2024 and was updated in response to Executive Order (E.O.) 13985 (Advancing Racial Equity and Support for Underserved Communities Through the Federal Government). By way of E.O. 14148, E.O. 13985 was rescinded, and E.O. 14151 (Ending Radical and Wasteful Government DEI Programs and Preferencing) was signed. Together, these orders required federal agencies to undo or amend agency regulations and policies that were made in accordance with E.O. 13985 or which focused on a similar purpose, thereby necessitating revisions to the Introduction Chapter. The draft update reverts the Comprehensive Plan's Introduction Chapter back to the version that existed prior to June 2024. The Introduction Chapter is available online at: https://www.ncpc.gov/participate/notices/.

DATES: The public comment period closes October 9, 2025.

ADDRESSES: Written public comments on the draft may be submitted by either method: U.S. mail, courier, or hand delivered: Introduction Chapter Public Comment, National Capital Planning Commission, 401 9th Street NW, Suite 500N, Washington, DC 20004; or Electronically: https://www.ncpc.gov/participate/notices/.

FOR FURTHER INFORMATION CONTACT: Email compplan@ncpc.gov.

Authority: 40 U.S.C. 8721(a).

Dated: September 5, 2025.
Meghan Hottel-Cox,
General Counsel and Secretariat, National Capital Planning Commission.

[FR Doc. 2025-17297 Filed 9-8-25; 8:45 am]

BILLING CODE 7502-02-P